DEPARTMENT OF ENERGY

Federal Energy Regulatory Commission

Combined Notice of Filings

Take notice that the Commission has received the following Natural Gas Pipeline Rate and Refund Report filings:

Filings Instituting Proceedings

Docket Numbers: PR14-32-001

Applicants: American Midstream (Louisiana Intrastate), LLC

Description: Tariff filing per 284.123(b), (e), (g): Amendment to Rate Petition to be effective 3/4/2014; TOFC 1270

Filed Date: 4/24/14

Accession Number: 20140418-5091

Comments Due: 5 p.m. ET 5/15/14

284.123(g) Protests Due: 5 p.m. ET 5/15/14

Docket Numbers: RP14-766-000

Applicants: Great Lakes Gas Transmission Limited Par

Description: Great Lakes Gas Transmission Revenue Cap and Revenue Sharing Mechanism True-Up Report.

Filed Date: 4/24/14

Accession Number: 20140424-5029

Comments Due: 5 p.m. ET 5/6/14

Docket Numbers: RP14-767-000

Applicants: Questar Pipeline Company

Description: Non-Conforming TSAs—EnerVest Contract Nos. 5113, 5114, 5115 to be effective 2/1/2014

Filed Date: 4/24/14

Accession Number: 20140424-5040

Comments Due: 5 p.m. ET 5/6/14

Docket Numbers: RP14-768-000

Applicants: Natural Gas Pipeline Company of America

Description: Macquire Energy Negotiated Rate to be effective 5/1/2014

Filed Date: 4/25/14

Accession Number: 20140425-5001

Comments Due: 5 p.m. ET 5/7/14

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP14-556-001

Applicants: Portland Natural Gas Transmission System

Description: Compliance Filing to RP14-556 to be effective 9/1/2014

Filed Date: 4/25/14

Accession Number: 20140425-5026

Comments Due: 5 p.m. ET 5/7/14

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2014..
Nathaniel J. Davis, Sr.,
Deputy Secretary.

[FR Doc. 2014-10089 Filed 5-1-14; 8:45 am]

BILLING CODE 6717-01-P